DEPARTMENT OF COMMERCE

International Trade Administration

(A-580-825)

Oil Country Tubular Goods, Other Than Drill Pipe, from Korea: Amended Final Results of the Administrative Review Pursuant to Final Court Decision

AGENCY: Import Administration, International Trade Administration, Department of Commerce.

EFFECTIVE DATE: March 23, 2009.

SUMMARY: On December 22, 2008, the United States Court of International Trade (CIT) sustained the Department of Commerce (the Department) results of redetermination pursuant to the CIT remand and entered final judgment in Husteel Company, Ltd. and SeAH Corp., Ltd., v. United States, Consol. Ct. No. 06-00075, Slip Op. 08-139 (CIT December 22, 2008) (Husteel v. United States III). See Results of Redetermination on Remand Pursuant to Husteel Company, Ltd., and SeAH Corp., Ltd., v. United States, dated December 5, 2008 (Final Remand Results) (available at http://ia.ita.doc.gov/remands).

As there is now a final and conclusive court decision in this case, the Department is amending its final results to the administrative review covering oil country tubular goods, other than drill pipe, from Korea covering the period of review (POR) of August 1, 2003 through July 31, 2004 to reflect the Final Remand Results.

FOR FURTHER INFORMATION CONTACT: Scott Lindsay, AD/CVD Operations, Office 6, Import Administration, International Trade Administration, U.S. Department of Commerce, 14th Street and Constitution Avenue, NW, Washington, DC 20230; telephone: (202) 482-0780.

SUPPLEMENTARY INFORMATION:

Background

This matter arose from a challenge to Oil Country Tubular Goods, Other Than Drill Pipe, from Korea: Final Results of Antidumping Duty Administrative Review, 71 FR 13091 (March 14, 2006) (Final Results), and accompanying Issues and Decision Memorandum covering the POR of August 1, 2003 through July 31, 2004. In the Final Results, the Department found that the use of third country sales to a non-market economy, the People's Republic of China (PRC) in this case, were inappropriate for determining normal value, because these sales were not representative. Id. As such, in calculating normal value for SeAH Steel Corp. Ltd. (SeAH), the Department used SeAH's third country sales to Canada, and in calculating normal value for Husteel Co. Ltd. (Husteel), the Department used constructed value. Therefore, SeAH was assigned a rate of 6.84 percent, and Husteel was assigned a rate of 12.30 percent. Id.

In Husteel Co., Ltd. and SeAH Steel Corporation Ltd. v. United States, Consol. Ct. No. 06-00075, Slip Op. 06-2 (May 15, 2007 CIT), the CIT remanded the Department's Final Results holding that Department did not adequately explain its basis for finding that the prices of HuSteel's and SeAH's (collectively plaintiffs) sales to the PRC were not representative pursuant to section 773(a)(1)(B)(ii)(I) of the Tariff Act of 1930, as amended (the Act). Specifically, the CIT found that the Department failed to explain: (1) why plaintiffs' sales should be treated as sales into a non-market economy (NME); and (2) why the Department treated plaintiffs' price data differently than it treats price data for sales from market economy suppliers to NME respondents in its NME dumping cases. On October 30, 2007, the Department issued its Results of Redetermination on Remand Pursuant to Husteel Co., Ltd. and SeAH Steel Corporation Ltd. v. United States, Consol. Ct. No. 06-00075, Slip Op. 06-2 (May 15, 2007 CIT), (Remand Results I). In Remand Results I, the Department continued to find Plaintiffs' sales into the PRC were not representative of section 773(a)(1)(B)(ii)(I) of the Act and provided additional support for this determination.

In Husteel Company, Ltd., and SeAH Corp., Ltd., v. United States, Consol. Ct. No. 06-00075, Slip Op. 08-62 (CIT June 2, 2008) (HuSteel vs United States II), the CIT remanded the Department's Remand Results I, holding that the Department's finding, that sales into an NME are not representative, was not supported by substantial record evidence. The CIT directed the Department to either present persuasive record evidence that plaintiffs' sales into the PRC were not representative within the meaning of 19 U.S.C. § 1677b(a)(1)(B)(ii)(I), or find the sales into the PRC to be representative, and then recalculate and assign the plaintiffs new antidumping duty assessment rates. On August 29, 2008, the Department issued its final results of redetermination pursuant to Husteel vs United States II. See Results of Redetermination on Remand Pursuant to Husteel Company, Ltd., and SeAH Corp., Ltd., v. United States (August 29, 2008) (Remand Results II). The remand redetermination explained that, in accordance with the CIT's instructions, after finding sales to the PRC to be representative, the Department recalculated the assessment rate for SeAH and Husteel. Specifically, the Department determined SeAH's new weighted-average margin to be 0.59 percent, and Husteel's new weighted-average margin to be 0.62 percent.

However, in the Remand Results II for Husteel, the Department inadvertently treated certain Korean inventory carrying costs as if they were denominated in U.S. dollars when they, in fact, had been denominated in Korean won. Therefore, in Husteel Company Ltd. and SeAH Corp. Ltd., v. United States, Consol. Ct. No. 06-000075, Slip Op. 08-127 (CIT November 21, 2008), the CIT upheld the Department's Remand Results II, with the exception of the calculation of certain inventory carrying costs. The CIT ordered the Department to correct its calculation of Husteel's Korean inventory carrying costs. In accordance with the CIT's order, the Department corrected its calculation with regard to Husteel's Korean inventory carrying costs. See Final Remand Results. As a result, Husteel's new dumping margin is now de minimis (i.e., less than 0.50 percent) and SeAH's margin remains 0.59 percent.

On January 29, 2009, consistent with the decision in Timken Co. v. United States, 893 F.2d 337 (Fed. Cir. 1990), the Department notified the public that the CIT's decision was not in harmony with Department's final results. See Oil Country Tubular Goods, Other Than Drill Pipe, From Korea: Notice of Court Decision Not in Harmony with Final Results of Administrative Review, 74 FR 5147 (January 29, 2009). There was no appeal of the CIT's decision to the U.S. Court of Appeals for the Federal Circuit filed within the appeal period. Therefore, the CIT's decision is now final and conclusive.

Amended Final Results of the Review

As the litigation in this case has concluded, the Department is amending the Final Results to reflect the results of our remand redetermination. The revised dumping margin in the amended final results is as follows:

Exporter/Manufacturer | Weighted-Average Margin (Percent)
Husteel Company, Ltd | de minimis
SeAH Corp., Ltd. | 0.59

The Department will instruct U.S. Customs and Border Protection (CBP) to liquidate entries of OCTG from Korea during the review period at the assessment rate the Department calculated for the final results of review, as amended. Pursuant to 19 CFR 351.106(c)(2), we will instruct CBP to liquidate without regard to antidumping duties any entries for which the assessment rate is de minimis. We intend to issue assessment instructions to CBP 15 days after the date of publication of these amended final results of review.

This notice is published in accordance with sections 751(a)(1) and 777(i) of the Act.

Dated: March March 13, 2009.
Ronald K. Lorentzen,
Acting Assistant Secretary for Import Administration.

[FR Doc. E9-6326 Filed 3-20-09; 8:45 am]

BILLING CODE 3510-DS-S